DEPARTMENT OF INTERIOR

Fish and Wildlife Service

50 CFR Parts 11 and 37

Civil Penalty Procedures—Change of Address for Office of Hearings and Appeals

AGENCY: U.S. Fish and Wildlife Service, Interior.

ACTION: Final rule.

SUMMARY: The U.S. Fish and Wildlife Service (FWS) is revising its regulations governing administrative appeals to reflect a change of address for the Office of Hearings and Appeals (OHA). OHA is moving to a new building in Arlington, Virginia. This move was effective February 11, 2002.

DATES: June 3, 2002.

FOR FURTHER INFORMATION CONTACT: Robert More, Director, U.S. Department of the Interior, Office of Hearings and Appeals, 801 North Quincy Street, Arlington, Virginia, 22203, telephone (703) 235-3810.

SUPPLEMENTARY INFORMATION:

Background

In 50 CFR part 11, FWS has established procedures for the assessment of civil penalties for violations of various fish and wildlife protection laws. In 50 CFR part 37, FWS has provided guidelines governing the surface exploration for oil and gas within the coastal plain of the Arctic National Wildlife Refuge. Under § 37.47, civil penalties may be assessed for violations of an approved exploration plan, a special use permit, or the regulations.

Both sets of regulations include provisions for the Department of the Interior's Office of Hearings and Appeals (OHA) to conduct appeals of civil penalty assessment. OHA consists of a headquarters office located in Arlington, Virginia, and nine field offices located throughout the country. Since 1970, the headquarters office has been located at 4015 Wilson Boulevard. This address appears in four sections in 50 CFR parts 11 and 37.

Effective February 11, 2002, the OHA headquarters office relocated to 801 North Quincy Street, Arlington, Virginia. In anticipation of that move, FWS is revising its administrative appeals regulations to reflect OHA's new street address.

Procedural Requirements

A. Determination To Issue Final Rule Effective in Less Than 30 Days

FWS has determined that the public notice and comment provisions of the Administrative Procedures Act, 5 U.S.C. 553(b), do not apply to this rulemaking because the changes being made relate solely to matters of agency organization, procedure and practice. These changes meet the exemption for notice and comment periods in 5 U.S.C. 553(b)(A).

FWS has also determined that there is good cause to waive the requirement for publication 30 days in advance of the rule's effective date under 5 U.S.C. 553(d)(3). Construction schedules dictated the timing of OHA's relocation. While OHA has known for months that it would be moving, the actual move date was confirmed only in the past few weeks.

B. Required Determinations Under Procedural Statutes and Executive Orders

FWS has reviewed this rule under the following statutes and executive orders governing rulemaking procedures: the Unfunded Mandates Reform Act of 1995, 2 U.S.C. 1501 et seq.; the Regulatory Flexibility Act, 5 U.S.C. 601 et seq.; the Small Business Regulatory Enforcement Fairness Act of 1996, 5 U.S.C. 801 et seq.; the Paperwork Reduction Act, 44 U.S.C. 3501 et seq.; the National Environmental Policy Act of 1969, 42 U.S.C. 4231 et seq.; Executive Order 12630 (Takings); Executive Order 12866 (Regulatory Planning and Review); Executive Order 12988 (Civil Justice Reform); Executive Order 13132 (Federalism); Executive Order 13175 (Tribal Consultation); and Executive Order 13211 (Energy Impacts). FWS has determined that this rule does not trigger any of the procedural requirements of those statutes and executive orders since this rule only changes the street address for OHA's headquarters office.

List of Subjects in 50 CFR Parts 11 and 37

Administrative practice and procedure.

Regulation Promulgation

For the reasons set out in the preamble, the Service amends parts 11 and 37 of Title 50 of the Code of Federal Regulations as set forth below.

PART 11—[AMENDED]

1. The authority citation for part 11 continues to read as follows:

Authority: Lacey Act, 83 Stat. 279-281, 18 U.S.C. 42-44; Lacey Act Amendments of 1981, 95 Stat. 1073-1080, 16 U.S.C. 3371 et seq.; Bald Eagle Protection Act, sec. 2, 54 Stat. 251, 16 U.S.C. 668a; Endangered Species Act of 1973, sec. 11(f), 87 Stat. 884, 16 U.S.C. 1540(f); Marine Mammal Protection Act of 1972, sec. 112(a), 86 Stat. 1042, 16 U.S.C. 1382.

2. In part 11, revise all references to “4015 Wilson Boulevard” to read “801 North Quincy Street.”

PART 37—[AMENDED]

3. The authority citation for part 37 continues to read as follows:

Authority: Sec. 1002, Pub. L. 96-487, 94 Stat. 2449, as amended by sec. 110, Pub. L. 97-394, 96 Stat. 1982 (16 U.S.C. 3142); sec. 110, Pub. L. 89-665, as added by sec. 206, Pub. L. 96-515, 94 Stat. 2996 (16 U.S.C. 470h-2); sec. 401, Pub. L. 148, 49 Stat. 383, as amended (16 U.S.C. 715s); 31 U.S.C. 9701; 5 U.S.C. 301; 209 DM 6.1.

§ 37.47 [Amended]

4. In § 37.47, revise all references to “4015 Wilson Boulevard” to read “801 North Quincy Street.”

Dated: February 1, 2002.
Joseph E. Doddridge,
Assistant Secretary for Fish and Wildlife and Parks.

[FR Doc. 02-13788 Filed 5-31-02; 8:45 am]

BILLING CODE 4310-55-P